SURFACE TRANSPORTATION BOARD

[Docket No. FD 36482]

East Chicago Rail Terminal, LLC—Acquisition and Operation Exemption—Rail Line of Chrome, LLC at East Chicago, Ind.

East Chicago Rail Terminal, LLC (ECRT), a noncarrier, has filed a verified notice of exemption under 49 CFR 1150.31 to acquire from Chrome, LLC (Chrome), and operate approximately 467 feet of track between the connection to Indiana Harbor Belt Railroad Company (IHB) at a point 363 feet north of the center line of Michigan Avenue at East Chicago, Ind., and the end of track on private property of Chrome at East Chicago, Ind. (the Line). According to the verified notice, the Line is not identified by mileposts.

ECRT states that an agreement has been reached under which Chrome will convey the Line to ECRT. ECRT further states that, after consummation, it will provide common carrier rail service to Tri-Star DEF LLC, and also will hold itself out to provide common carrier rail service over the Line.¹

¹ ECRT states that IHB currently operates over the Line pursuant to a private side track agreement dated July 1, 1985, between IHB and a Chrome predecessor, Standard Forgings Company.

ECRT certifies that the proposed acquisition and operation of the Line does not involve a provision or agreement that may limit future interchange with a third-party connecting carrier. ECRT further certifies that its projected annual revenues as a result of this transaction will not exceed the maximum revenue of a Class III rail carrier and will not exceed $5 million.

The transaction may be consummated on or after February 26, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than February 19, 2021 (at least seven days before the exemption becomes effective).

All pleadings, referring to Docket No. FD 36482, should be filed with the Surface Transportation Board via e-filing on the Board's website. In addition, a copy of each pleading must be served on ECRT's representative, Thomas F. McFarland, Thomas F. McFarland, P.C., 2230 Marston Lane, Flossmoor, IL 60422-1336.

According to ECRT, this action is categorically excluded from environmental review under 49 CFR 1105.6 and from historic reporting requirements under 49 CFR 1105.8.

Board decisions and notices are available at www.stb.gov.

Decided: February 8, 2021.
By the Board, Allison C. Davis, Director, Office of Proceedings.
Eden Besera,
Clearance Clerk.

[FR Doc. 2021-02846 Filed 2-11-21; 8:45 am]

BILLING CODE 4915-01-P